LEGAL SERVICES CORPORATION

Extension of Comment Period for Proposed Revisions to the LSC Grant Assurances for Calendar Year 2017 Basic Field Grants

AGENCY: Legal Services Corporation.

ACTION: Notice of extended comment period for proposed changes.

SUMMARY: The Legal Services Corporation (“LSC”) is extending the public comment period for the proposed Grant Assurances for calendar year 2017 Basic Field Grants. The proposed revisions affect Grant Assurances 7, 15, 20, and 22. LSC published the original request for comments in the Federal Register on April 5, 2016, 81 FR 19640 [FR Doc. 2016-07747]. The proposed LSC Grant Assurances for calendar year 2017 Basic Field Grants, in redline format indicating the proposed changes to the current “LSC 2016 Grant Assurances,” are available at http://grants.lsc.gov/sites/default/files/Grants/ReferenceMaterials/2017-GrantAssurances-Proposed.pdf. This notice extends the comment period for ten calendar days, from May 5, 2016, to May 16, 2016.

DATES: All comments and recommendations must be received on or before the close of business on May 16, 2016

ADDRESSES: You may submit comments by any of the following methods:

• Agency Web site: http://www.lsc.gov/contact-us. Follow the instructions for submitting comments on the Web site.

• Email: LSCGrantAssurances@lsc.gov.

• Fax: (202) 337-6813.

• Mail: Legal Services Corporation, 3333 K Street NW., Washington, DC 20007.

All comments should be addressed to Reginald J. Haley, Office of Program Performance, Legal Services Corporation. Include “2017 LSC Grant Assurances” as the heading or subject line for all comments submitted.

FOR FURTHER INFORMATION CONTACT: Reginald J. Haley, haleyr@lsc.gov, (202) 295-1545.

SUPPLEMENTARY INFORMATION: In response to recent requests, LSC is extending the comment period for proposed changes to the Grant Assurances for calendar year 2017 Basic Field Grants.

Grant Assurance 7 requires LSC recipients to provide legal services in accordance with: a) the grant proposal that LSC approved; b) the LSC Performance Criteria; c) the ABA Standards for the Provision of Civil Legal Aid; d) the ABA standards for Programs Providing Civil Pro Bono Legal Services to Persons of Limited Means; and e) any applicable code or rules of professional conduct, responsibility, or ethics. The proposed change clarifies the Grant Assurance and notifies the recipient that LSC's consent is required before the recipient makes significant changes to the delivery system described in the approved grant proposal or grant renewal application.

Grant Assurance 15 requires grantees to notify LSC of: a) an office closing or relocation; b) a change of board chairperson; c) a change of chief executive officer; d) a change in recipient's charter, articles of incorporation, by-laws, or governing body structure; and e) a change in recipient's main email and Web site address. The proposed change updates the instruction for submitting these notifications to LSC.

Grant Assurance 20 requires LSC recipients to provide advance notification to LSC of a proposed merger, consolidation, change in recipient's name, or status as a legal entity. In addition, Grant Assurance 20 directs recipients to LSC's instructions for planning an orderly conclusion of the role and responsibility of an LSC recipient. The proposed change clarifies and adds to the requirements for notifying LSC of a significant change in recipient's status and updates the Web site link to LSC's instructions for planning an orderly conclusion of the role and responsibility of an LSC recipient.

Grant Assurance 22 requires recipients to give recognition and acknowledgement of LSC support and funding by displaying the LSC logo on the recipient's Web site, annual reports, press releases, letterhead, and other similar announcements and documents. The proposed change updates the Web site link to the digital and camera-ready versions of the LSC logo.

Dated: May 3, 2016.
Stefanie K. Davis,
Assistant General Counsel.

[FR Doc. 2016-10770 Filed 5-6-16; 8:45 am]

BILLING CODE 7050-01-P